COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add product(s) and service(s) to the Procurement List that will be furnished by nonprofit agencies employing persons who are blind or have other severe disabilities.

DATES: Comments must be received on or before: July 10, 2022.

ADDRESSES: Committee for Purchase from People Who Are Blind or Severely Disabled, 1401 S. Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

MR 10840—Disney Marvel Toys, Includes Shipper 20840

MR 10836—Barbecue Grill Mat, Includes Shipper 20836

MR 10861—Soap Dispensing Sponge Holder, Includes Shipper 20861

MR 10860—Mosquito Repellent Spray, Includes Shipper 20860

MR 10852—Water Toy Tower, Includes Shipper 20852

Designated Source of Supply: Winston-Salem Industries for the Blind, Inc, Winston-Salem, NC

Contracting Activity: Military Resale-Defense Commissary Agency

Distribution: C-List

Mandatory for: The requirements of military commissaries and exchanges in accordance with the 41 CFR 51-6.4

NSN(s)—Product Name(s): 6930-01-692-1671—Set, Army Combat Fitness Equipment (ACFT)

Designated Source of Supply: Envision, Inc., Wichita, KS

Contracting Activity: DEFENSE LOGISTICS AGENCY, DLA TROOP SUPPORT

Distribution: C-List

Mandatory for: 100% of the requirements of the U.S. Army

Service(s)

Service Type: Postal Service

Mandatory for: U.S. Air Force, Travis Air Force Base, CA

Mandatory Source of Supply: Versability Resources, Inc., Hampton, VA

Contracting Activity: U.S. Air Force, FA 4427 60 CONS LGC

Michael R. Jurkowski,
Acting Director, Business Operations.

[FR Doc. 2022-12564 Filed 6-9-22; 8:45 am]

BILLING CODE 6353-01-P